DEPARTMENT OF TRANSPORTATION

Federal Aviation Administration

14 CFR Parts 91, 125, 135, 137, and 145

[Docket No.: FAA-2024-0025; Notice No. 24-08A]

RIN 2120-AL20

Inspection Programs for Single-Engine Turbine-Powered Airplanes and Unmanned Aircraft; and Miscellaneous Maintenance-Related Updates; Correction

AGENCY: Federal Aviation Administration (FAA), Department of Transportation (DOT).

ACTION: Notice of proposed rulemaking (NPRM); correction; extension of comment period.

SUMMARY: The FAA is correcting an NPRM published on January 31, 2024. In that document, the FAA proposed to amend its regulations to revise certain aircraft maintenance inspection rules for small, corporate-sized, and unmanned aircraft. This document corrects errors in the preamble of that document.

DATES: The comment period for the proposed rule published January 31, 2024, at 89 FR 6056, is extended. The comment period originally scheduled to close on April 1, 2024, is extended to close on May 1, 2024.

FOR FURTHER INFORMATION CONTACT: For technical questions concerning this action, contact Bryan B. Davis, Airmen & Special Projects Branch, AFS-320, Aircraft Maintenance Division, Flight Standards Service, Federal Aviation Administration, 800 Independence Avenue SW, Washington, DC 20591; telephone (202) 267-1675; email Bryan.Davis@faa.gov.

SUPPLEMENTARY INFORMATION:

Background

On January 31, 2024, the FAA published an NPRM titled, “Inspection Programs for Single-Engine Turbine-Powered Airplanes and Unmanned Aircraft; and Miscellaneous Maintenance-Related Updates” (89 FR 6056).

In that NPRM, the FAA proposed to amend its regulations to revise certain aircraft maintenance inspection rules for small, corporate-sized, and unmanned aircraft. The proposed changes include additional inspection program options for owners of single-engine turbine-powered airplanes and unmanned aircraft, relaxed mechanical reliability reporting requirements for part 91, subpart K aircraft, and several changes to clarify and simplify various maintenance-related regulations. These proposed amendments would relieve aircraft owners, operators, maintenance providers, and the FAA. The proposed amendments would provide greater flexibility for aircraft maintenance, standardized reporting requirements, and provide clarification of various maintenance-related regulations.

Extension of the Comment Period

When the NPRM published on January 31, 2024, the comment period was scheduled to close on April 1, 2024. The FAA recognizes that the NPRM had incorrect information for approximately thirty (30) days and that the Preliminary Regulatory Impact Analysis that supports the NPRM had not been placed on the docket. The FAA has placed the Preliminary Regulatory Impact Analysis in the docket (FAA-2024-0025) and it is now available for review and comment. Based on this, the FAA has determined that it is appropriate to extend the comment period to May 1, 2024.

After publishing the NPRM, the FAA became aware that certain information in the preamble, specifically in the Regulatory Notices and Analyses section, was incorrect. This document corrects those errors.

Correction

In FR Doc. 2024-00763, beginning on page 6067 in the Federal Register of January 31, 2024, make the following corrections:

1. On page 6607, in the sentence in the Summary of Benefits and Costs section in the third column correct “Table 1 below presents a summary of estimated costs and cost savings for this proposal's manned aircraft maintenance programs over a 10-year time period” to read “Table 3 below presents a summary of estimated costs and cost savings for this proposal's manned aircraft maintenance programs over a 10-year time period.”

2. On page 6067, in the second to last column to the right in Table 3—Summary of Costs and Cost Savings correct “Annualized net cost savings 7%—$7,372,660” to read “Annualized net cost savings 7%—$7,411,916.”

3. On page 6067, in the last column to the right of Table 3—Summary of Cost and Cost Savings correct “Annualized net cost savings 3%—$7,392,755” to read “Annualized net cost savings 3%—$7,418,122.”

4. On page 6068, in the sentence in the Costs and Cost Savings section in the third column correct “Table 2 presents undiscounted cost savings, costs, net costs, discounted net cost savings, and annualized cost savings based on only one manufacturer offering its recommended inspection program” to read “Table 4 presents undiscounted cost savings, costs, net costs, discounted net cost savings, and annualized cost savings based on only one manufacturer offering its recommended inspection program.”

5. On page 6068, in the sentences starting at the bottom of the second column correct “For Year 1 in Table 3, using 2022 forecast estimates, the annual potential cost savings of the proposed rule would be $38,652,509 [$7,974 (estimated cost savings per aircraft) × 4,847 (estimated single turboprops)]. In the remaining years in the 10-year period of analysis in Table 3, annual potential cost savings are calculated in the same manner as in Year 1 by multiplying $7,974 cost savings per aircraft with the number of forecasted aircrafts” to read “For Year 1 in Table 5, using 2022 forecast estimates, the annual potential cost savings of the proposed rule would be $38,652,509 [$7,974 (estimated cost savings per aircraft) × 4,847 (estimated single turboprops)]. In the remaining years in the 10-year period of analysis in Table 5, annual potential cost savings are calculated in the same manner as in Year 1 by multiplying $7,974 cost savings per aircraft with the number of forecasted aircrafts.”

Issued under authority provided by 49 U.S.C. 106(f), 44701(a), and 44707 in Washington, DC.
Brandon Roberts,
Executive Director, Office of Rulemaking.

[FR Doc. 2024-05825 Filed 3-19-24; 8:45 am]

BILLING CODE 4910-13-P